DEPARTMENT OF LABOR

Employment and Training Administration

[TA-W-39,654]

Wilcox Forging Company, Mechanicsburg, PA; Amended Certification Regarding Eligibility To Apply for Worker Adjustment Assistance

In accordance with section 223 of the Trade Act of 1974 (19 U.S.C. 2273) the Department of Labor issued a Certification of Eligibility to Apply for Worker Adjustment Assistance on September 17, 2001, applicable to workers of Wilcox Forging Company, Mechanicsburg, Pennsylvania. The notice was published in the Federal Register on October 4, 2001 (FR 66 50685).

At the request of the State agency, the Department reviewed the certification for workers of the subject firm. The workers produce drop forgings for the automotive industry.

New findings show that there was a previous certification, TA-W-36,179, issued on May 21, 1999, for workers of Wilcox Forging Corporation, Mechanicsburg, Pennsylvania who were engaged in employment related to the production of drop forgings for the automotive industry. That certification expired May 21, 2001. To avoid an overlap in worker group coverage, the certification is being amended to change the impact date from July 1, 2000 to May 22, 2001, for workers of the subject firm.

The amended notice applicable to TA-W-39,654 is hereby issued as follows:

All workers of Wilcox Forging Company, Mechanicsburg, Pennsylvania, who became totally or partially separated from employment on or after May 22, 2001, through September 17, 2003, are eligible to apply for adjustment assistance under section 223 of the Trade Act of 1974.

Signed at Washington, DC, this 16th day of October, 2001.
Linda G. Poole,
Certifying Officer, Division of Trade Adjustment Assistance.

[FR Doc. 01-27245 Filed 10-24-01; 8:45 am]

BILLING CODE 4510-30-M